DEPARTMENT OF AGRICULTURE

Natural Resources Conservation Service

Upper Tygart Valley River Watershed, Randolph and Pocahontas Counties, West Virginia; Notice of Availability

AGENCY: Natural Resources Conservation Service.

ACTION: Notice of availability of record of decision.

SUMMARY: William J. Hartman, responsible Federal official for projects administered under the provisions of Public Law 83-566, 16 U.S.C. 1001-1008, in the State of West Virginia, is hereby providing notification that a record of decision to proceed with the installation of the Upper Tygart Valley River Watershed Project is available. Single copies of the Record of Decision may be obtained from William J. Hartman at the address shown below.

For further information, contact William J. Hartman, State Conservationist, Natural Resources Conservation Service, 75 High Street, Room 301, Morgantown, West Virginia 26508, phone (304) 284-7545.

Note: (This activity is listed in the Catalog of Federal Domestic Assistance under No. 10.904, Watershed Protection and Flood Prevention, and is subject to the provisions of Executive Order 12372, which requires intergovernmental consultation with State and local officials.)

Dated: September 12, 2001.
William J. Hartman,
State Conservationist.

[FR Doc. 01-28874 Filed 11-16-01; 8:45 am]

BILLING CODE 3410-16-P